DEPARTMENT OF STATE

[Public Notice 8795]

In the Matter of the Designation of the United Self-Defense Forces of Colombia aka AUC; aka Autodefensas Unidas de Colombia; as a Foreign Terrorist Organization Pursuant to Section 219 of the Immigration and Nationality Act, as Amended

Based upon a review of the Administrative Record assembled in this matter, and in consultation with the Attorney General and the Secretary of the Treasury, I conclude that the circumstances that were the basis for the designation of the United Self-Defense Forces of Colombia as foreign terrorist organization have changed in such a manner as to warrant revocation of the designation.

Therefore, I hereby determine that the designation of the United Self-Defense Forces of Colombia as a foreign terrorist organization, pursuant to Section 219 of the Immigration and Nationality Act, as amended (8 U.S.C. 1189), shall be revoked.

This determination shall be published in the Federal Register.

Dated: July 1, 2014.
John F. Kerry,
Secretary of State.

[FR Doc. 2014-16627 Filed 7-14-14; 8:45 am]

BILLING CODE 4710-10-P